NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 74 FR 12153, and no substantial comments were received. NSF is forwarding the proposed renewal submission to the Office of Management and Budget (OMB) for clearance simultaneously with the publication of this second notice. The full submission may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725 17th Street, NW., Room 10235, Washington, DC 20503, and to Suzanne Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

FOR FURTHER INFORMATION CONTACT: Written comments regarding the information collection and requests for copies of the proposed information collection request should be addressed to Suzanne Plimpton, Reports Clearance Officer, National Science Foundation, 4201 Wilson Blvd., Rm. 295, Arlington, VA, 22230, or by e-mail to splimpto@nsf.gov.

NSF may not conduct or sponsor a collection of information unless the collection of information displays a currently valid OMB control number and the agency informs potential persons who are to respond to the collection of information that such persons are not required to respond to the collection of information unless it displays a currently valid OMB control number.

SUPPLEMENTARY INFORMATION: Title of Collection: Research in Disabilities Education Program On-Line Project Data Management System.

OMB Control No.: 3145-0164.

Abstract

The National Science Foundation (NSF) requests a reinstatement of the information collection for the Program for Persons with Disabilities, now called the Research in Disabilities Education (RDE) program. This on-line, annual data collection will describe and track the impact of RDE program funding on Nation's science, technology, engineering and mathematics (STEM) education and STEM workforce.

NSF funds grants, contracts, and cooperative agreements to colleges, universities, and other eligible institutions, and provides graduate research fellowships to individuals in all parts of the United States and internationally. The Directorate for Education and Human Resources (EHR), a unit within NSF, promotes rigor and vitality within the Nation's STEM education enterprise to further the development of the 21st century's STEM workforce and public scientific literacy. EHR does this through diverse projects and programs that support research, extension, outreach, and hands-on activities serving STEM learning and research at all institutional (e.g. pre-school through postdoctoral) levels in formal and informal settings; and individuals of all ages (birth and beyond). The RDE program focuses specifically on broadening the participation and achievement of people with disabilities in all fields of STEM education and associated professional careers. The RDE program has been funding this objective since 1994 under the prior name Program for Persons with Disabilities. Particular emphasis is placed on contributing to the knowledge base by addressing disability related differences in secondary and post-secondary STEM learning and in the educational, social and pre-professional experiences that influence student interest, academic performance, retention in STEM degree programs, STEM degree completion, and career choices. Research and demonstration projects also investigate effective practices for transitioning students with disabilities across critical academic junctures, retaining students in undergraduate and graduate STEM degree programs, and graduating students with STEM associate, baccalaureate and graduate degrees. Research, demonstration, and enrichment project results inform the delivery of innovative, transformative and successful practices employed by the Alliances for Students with Disabilities in STEM to increase the number of students with disabilities completing associate, undergraduate and graduate degrees in STEM and to increase the number of students with disabilities entering our nation's science and engineering workforce. RDE projects contribute to closing the gaps occurring for people with disabilities in STEM fields by successfully disseminating findings, project evaluation results, and proven good practices and products to the public.

The original information collection, approved by OMB in 1996, surveyed three groups of students: students with disabilities in STEM fields, student with disabilities in other fields, and students without disabilities in STEM fields. These data allowed NSFD to understand more fully the population of students with disabilities in STEM fields and the issues they faced. The collection that will be submitted for reinstatement focuses more specifically on the outcomes of the RDE program, and how alliances and researchers receiving NSF RDE funding have improved the academic environment for students with disabilities. This information collection will consist of an on-line data instrument that RDE awardees will use to submit annual data on their project activities and participants, as well as future evaluation activities.

Use of the Information

This information is required for effective administration, communication, program and project monitoring and evaluation, and for measuring attainment of NSF's program, project and strategic goals, as required by the President's Management agenda as represented by the Office of Management and Budget's (OMB) Program Assessment Rating Tool (PART) and the NSF's Strategic Plan. The Foundation's FY 2006-2011 Strategic Plan describes four strategic outcome goals of Discovery, Learning, Research Infrastructure, and Stewardship. NSF's complete strategic plan may be found at: http://www.nsf.gov/publications/pubsumm.jsp?ods_key=nsf0648.

Data collected will be used for accountability purposes, including responding from queries from Committees of Visitors and other scientific experts, and for separate research and evaluation studies.

Estimate of Burden

Respondents: Principal Investigators and/or project staff receiving NSF RDE awards.

Number of Respondents: 45.

Estimated Total Annual Burden on Respondents: 1220 hours.

Frequency of Responses: Data will be collected from awardees annually, and on an as-needed basis for future evaluation work.

Dated: August 7, 2009.
Suzanne H. Plimpton,
Reports Clearance Officer, National Science Foundation.

[FR Doc. E9-19343 Filed 8-11-09; 8:45 am]

BILLING CODE 7555-01-P